DEPARTMENT OF THE INTERIOR

Office of Indian Education Programs

25 CFR Part 46

RIN 1076-AE29

Technical Amendments to Adult Education Program

AGENCY: Office of Indian Education Programs, Interior.

ACTION: Final rule; corrected.

SUMMARY: This rule changes our estimate of the time it takes to fill out the application form for adult education benefits. The new estimated completion time of four hours more accurately reflects the time that applicants must spend to provide the information that we request. This more accurate estimate satisfies the requirements of the Paperwork Reduction Act and Office of Management and Budget regulations. The application requirements themselves remain unchanged.

EFFECTIVE DATE: Effective on March 25, 2002.

FOR FURTHER INFORMATION CONTACT: William A. Mehojah, Jr., Director, Office of Indian Education Programs, 202-208-6123.

SUPPLEMENTARY INFORMATION: The final rule was published in the Federal Register on August 19, 1997 (62 FR 44081). At that time, 46.3 listing a burden time of 3 hours per response was published. Since then, the hour burden has been changed to 4 hours per response and approved by the Office of Management and Budget. We are amending the rule to agree with the approved hour burden. Additionally, we are correcting the address for submission of comments and deleting reference to sending comments to the Office of Management and Budget. The change will not adversely affect respondents.

Determination To Issue A Final Rule

The Department has determined that the public notice and comment provisions of the Administrative Procedure Act, 5 U.S.C. 553(b) do not apply because of the good cause exception under 5 U.S.C. 553(b)(3)(B), which allows the agency to suspend the notice and public procedure when the agency finds for good cause that those requirements are impractical, unnecessary and contrary to the public interest. This amendment brings agreement between the rule and the Information Collection Request (1076-0120) which provides an additional hour for the annual report preparation. We have published this increased burden estimate in the Federal Register several times and have received no adverse comments. The rule also directed comments to be sent to the Office of Management and Budget but that is no longer considered necessary by the Office of Management and Budget. For these reasons, public comment on this technical change is unnecessary.

Determination To Make Rule Effective Immediately

The Department has determined that the amended rule should be effective immediately in accordance with 5 U.S.C. 533(d) for the following reasons: (1) The changes to amend the rule have no adverse affect on the public, and (2) the public has had opportunity to comment on the response burden previously during renewal of the Information Collection Request.

Regulatory Planning and Review (Executive Order 12866)

This document is not a significant rule and is not subject to review by the Office of Management and Budget under Executive Order 12866.

(1) This rule will not have an effect of $100 million or more on the economy. It will not adversely affect in a material way the economy, productivity, competition, jobs, the environment, public health or safety, or State, local, or tribal governments or communities.

(2) This rule will not create a serious inconsistency or otherwise interfere with an action taken or planned by another agency.

(3) This rule does not alter the budgetary effects or entitlements programs or the rights or obligations of their recipients. The program for adult education is not changed except to put the rule in agreement with the approved information collection.

(4) This rule does not raise novel legal or policy issues. The main impact is to put the rule in agreement with the approved information collection.

Regulatory Flexibility Act

The Department of the Interior certifies that this document will not have a significant economic impact on a substantial number of small entities under the Regulatory Flexibility Act (5 U.S.C. 601 et seq.). Funding will not be affected by this minor change to the rule.

Small Business Regulatory Enforcement Fairness Act (SBREFA)

This rule is not a major rule under 5 U.S.C. 804(2), the Small Business Regulatory Enforcement Fairness Act. This rule:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act

This rule imposes no unfunded mandates on State, local, or tribal governments or the private sector of more than $100 million per year. The rule does not have a significant or unique effect on State, local, or tribal governments or the private sector. This rule will not require additional costs to state, local, or tribal governments. This rule is in compliance with the provisions of the Unfunded Mandates Act of 1995 (1 U.S.C. 1531, et seq.).

Takings (Executive Order 12630)

In accordance with Executive Order 12630, the rule does not have significant takings implications. This rule affects adult education by making the rule agree with the approved information collection. A takings implication assessment is not required.

Federalism (Executive Order 12612)

This rule does not have significant Federalism effects. A Federalism assessment is not required. This rule affects only the small adult education programs of the tribes.

Civil Justice Reform (Executive Order 12988)

In accordance with Executive Order 12988, the Office of the Solicitor has determined that this rule does not unduly burden the judicial system and meets the requirements of sections 3 (a) and 3 (b)(2) of Executive Order 12988.

Paperwork Reduction Act

This regulation requires a collection of information from 10 or more parties, and submission under the Paperwork Reduction Act is required. OMB form 83-I for this collection has been reviewed by the Department and approved by the Office of Management and Budget as 1076-0120.

National Environmental Policy Act

This rule does not constitute a major Federal action significantly affecting the quality of the human environment. It has no effect on the environment. A detailed statement under the National Environmental Policy Act of 1969 is not needed.

Consultation and Coordination With Indian Tribal Governments (Executive Order 13175)

The rewriting of this rule is designed to ensure that the rule agrees with the approved information collection. The rewriting of this rule directs comments to the bureau in accordance with the Office of Management and Budget direction. The addition of 1 hour to the burden has been published in the Federal Register several times, allowing the tribes affected and other members of the public to comment.

Clarity of This Regulation

Executive Order 12866 requires each agency to write regulations that are easy to understand. We invite your comments on how to make this proposed rule easier to understand, including answers to questions such as the following: (1) Are the requirements in the proposed rule clearly stated? (2) Does the proposed rule contain technical language or jargon that interferes with its clarity? (3) Does the format of the proposed rule (grouping and order of sections, use of headings, paragraphing, etc.) aid or reduce its clarity? (4) Would the rule be easier to understand if it were divided into more (but shorter) sections? (A “section” appears in bold type and is preceded by the symbol “§” and a numbered heading; for example, § 46.3 Information Collection) (5) Is the description of the rule in the SUPPLEMENTARY INFORMATION section of the preamble helpful in understanding the proposed rule? What else could we do to make the rule easier to understand? Send a copy of any comments that concern how we could make this rule easier to understand to: Office of Regulatory Affairs, Department of the Interior, Room 7229, 1849 C Street NW., Washington, DC 20240. You may also e-mail the comments to this address: Exsec@ios.doi.gov

List of Subjects in 25 CFR Part 46

Indians—education, adult education.

Dated: March 7, 2002.
Neal A. McCaleb,
Assistant Secretary—Indian Affairs.

For the reasons set out in the preamble, Part 46 of Title 25 of the Code of Federal Regulations is amended as follows:

PART 46—ADULT EDUCATION PROGRAM

1. The authority citation for part 46 continues to read as follows:

Authority: 43 U.S.C. 1457; 25 U.S.C. 2, 9, 13.

2. Section 46.3 is revised to read as follows:

§ 46.3 Information collection.

Information collection requirements contained in this part have been approved by the Office of Management and Budget under 44 U.S.C. 3501 et seq. and assigned control number 1076-0120. This information is being collected to assess the need for adult education programs. The information collection is used to manage program resources and for fiscal accountability and appropriate direct services documentation. Response to this request is necessary to obtain or retain a benefit. Public reporting burden for this form is estimated to average 4 hours per response including time for reviewing instructions, gathering, maintaining data, completing and reviewing the form. Direct comments regarding the burden estimate or any other aspect of this form to the BIA Information Collection Clearance Officer, 1849 C Street NW., Washington, DC 20240.

[FR Doc. 02-7000 Filed 3-22-02; 8:45 am]

BILLING CODE 4310-6W-P